DEPARTMENT OF JUSTICE

Notice of Lodging of Consent Decree Under the Comprehensive Environmental Response, Compensation, and Liability Act

Notice is hereby given that on November 2, 2007, a proposed Consent Decree in United States v. County of San Bernardino, California, Civil Action No. 5:07-cv-01454-SGL-op, was lodged with the United States District Court for the Central District of California.

The Consent Decree settles claims under the Comprehensive Environmental Response, Compensation, and Liability Act, 42 U.S.C. 9207, in connection with the Newmark Groundwater Contamination Superfund Site in San Bernardino County, California. Under the Consent Decree the County will pay $11 million to settle the United States' claims for past and future response costs.

The Department of Justice will receive, for a period of thirty (30) days from the date of this publication, comments relating to the Consent Decree. Comments should be addressed to the Assistant Attorney General, Environment and Natural Resources Division, and either e-mailed to pubcomment-ees.enrd@usdoj.gov or mailed to P.O. Box 7611, U.S. Department of Justice, Washington, DC 20044-7611, and should refer to United States v. County of San Bernardino, California, D.J. Ref. #90-11-06902/2. Commenters may request an opportunity for a public meeting in the affected area, in accordance with section 7003(d) of the Resource Conservation and Recovery Act, 42 U.S.C. 6973(d).

The Consent Decree may be examined at U.S. EPA Region 9, Office of Regional Counsel, 75 Hawthorne Street, San Francisco, California 94105. During the public comment period, the Consent Decree may also be examined on the following Department of Justice Web site, at: http://www.usdoj.gov/enrd/Consent_Decrees.html. A copy of the Consent Decree may also be obtained by mail from the Consent Decree Library, P.O. Box 7611, U.S. Department of Justice, Washington, DC 20044-7611 or by faxing or e-mailing a request to Tonia Fleetwood (tonia.fleetwood@usdoj.gov), fax no: (202) 514-0097, phone confirmation number (202) 514-1547. In requesting a copy from the Consent Decree Library, please enclose a check in the amount of $6.25 (25 cents per page reproduction cost) payable to the U.S. Treasury or, if by e-mail or fax, forward a check in that amount to the Consent Decree Library at the stated address.

Henry Friedman,
Assistant Section Chief, Environmental Enforcement Section, Environment and Natural Resources Division.

[FR Doc. 07-5786 Filed 11-21-07; 8:45 am]

BILLING CODE 4410-15-M